SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2014.

ADDRESSES: Susquehanna River Basin Commission, 4423 North Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Cabot Oil & Gas Corporation, Pad ID: Shields G P1, ABR-20090930.R1, Dimock Township, Susquehanna County, Pa.; Consumptive Use of Up to 3.575 mgd; Approval Date: April 14, 2014.

2. Cabot Oil & Gas Corporation, Pad ID: HunsingerA P2, ABR-20090931.R1, Dimock Township, Susquehanna County, Pa.; Consumptive Use of Up to 3.575 mgd; Approval Date: April 14, 2014.

3. Cabot Oil & Gas Corporation, Pad ID: Hoover P1, ABR-20090937.R1, Dimock Township, Susquehanna County, Pa.; Consumptive Use of Up to 3.575 mgd; Approval Date: April 14, 2014.

4. Pennsylvania General Energy Company, LLC, Pad ID: COP TRACT 724—PAD A, ABR-20091118.R1, Gamble Township, Lycoming County, Pa.; Consumptive Use of Up to 2.000 mgd; Approval Date: April 14, 2014.

5. Chief Oil & Gas LLC, Pad ID: Herbert Drilling Pad, ABR-201404001, Harford Township, Susquehanna County, Pa.; Consumptive Use of Up to 2.500 mgd; Approval Date: April 16, 2014.

6. Cabot Oil & Gas Corporation, Pad ID: PijanowskiJ P1, ABR-201404002, Springville Township, Susquehanna County, Pa.; Consumptive Use of Up to 4.250 mgd; Approval Date: April 25, 2014.

7. Anadarko E&P Onshore, LLC, Pad ID: Bonnel Run H&F Pad D, ABR-201404003, Pine Township, Lycoming County, Pa.; Consumptive Use of Up to 4.000 mgd; Approval Date: April 25, 2014.

8. Chesapeake Appalachia, LLC, Pad ID: Three Reasons, ABR-201404004, Overton Township, Bradford County, Pa.; Consumptive Use of Up to 7.500 mgd; Approval Date: April 25, 2014.

9. Chesapeake Appalachia, LLC, Pad ID: Eileen, ABR-20090806.R1, Smithfield Township, Bradford County, Pa.; Consumptive Use of Up to 7.500 mgd; Approval Date: April 25, 2014.

10. Chesapeake Appalachia, LLC, Pad ID: Claudia, ABR-20090807.R1, Terry Township, Bradford County, Pa.; Consumptive Use of Up to 7.500 mgd; Approval Date: April 25, 2014.

11. Chesapeake Appalachia, LLC, Pad ID: Bonnie, ABR-20090904.R1, Albany Township, Bradford County, Pa.; Consumptive Use of Up to 7.500 mgd; Approval Date: April 25, 2014.

12. Talisman Energy USA Inc., Pad ID: Eick 013, ABR-20091105.R1, Columbia Township, Bradford County, Pa.; Consumptive Use of Up to 3.000 mgd; Approval Date: April 25, 2014.

13. Chief Oil & Gas LLC, Pad ID: Marcy Drilling Pad, ABR-201404005, Lenox Township, Susquehanna County, Pa.; Consumptive Use of Up to 2.500 mgd; Approval Date: April 29, 2014.

14. Chief Oil & Gas LLC, Pad ID: Harvey Drilling Pad, ABR-201404006, Elkland Township, Sullivan County, Pa.; Consumptive Use of Up to 2.500 mgd; Approval Date: April 29, 2014.

15. Pennsylvania General Energy Company, LLC, Pad ID: SGL75 Pad A, ABR-201404007, McHenry Township, Lycoming County, Pa.; Consumptive Use of Up to 2.500 mgd; Approval Date: April 29, 2014.

16. Pennsylvania General Energy Company, LLC, Pad ID: Pine Hill 1941 A-B, ABR-20090926.R1, Wharton Township, Potter County, Pa.; Consumptive Use of Up to 4.900 mgd; Approval Date: April 29, 2014.

17. Pennsylvania General Energy Company, LLC, Pad ID: Pine Hill West Pad B, ABR-20090929.R1, Sylvania Township, Potter County, Pa.; Consumptive Use of Up to 4.900 mgd; Approval Date: April 29, 2014.

18. Anadarko E&P Onshore, LLC, Pad ID: COP Tr 551 A, ABR-201404008, McIntyre Township, Lycoming County, Pa.; Consumptive Use of Up to 4.000 mgd; Approval Date: April 29, 2014.

19. Anadarko E&P Onshore, LLC, Pad ID: Marilyn Ely Pad A, ABR-201404009, Gamble Township, Lycoming County, Pa.; Consumptive Use of Up to 4.000 mgd; Approval Date: April 29, 2014.

Authority: Pub. L. 91-575, 84 Stat. 1509 et seq., 18 CFR Parts 806, 807, and 808.

Dated: July 1, 2014.
Stephanie L. Richardson,
Secretary to the Commission.

[FR Doc. 2014-16249 Filed 7-10-14; 8:45 am]

BILLING CODE 7040-01-P